DEPARTMENT OF COMMERCE

Foreign-Trade Zones Board

[B-82-2015]

Foreign-Trade Zone 149—Freeport, Texas; Application for Subzone Expansion, Subzone 149C, Phillips 66 Company, Brazoria County, Texas

An application has been submitted to the Foreign-Trade Zones Board (the Board) by Port Freeport, grantee of FTZ 149, requesting additional acreage within Subzone 149C on behalf of Phillips 66 Company located in Brazoria County, Texas. The application was submitted pursuant to the provisions of the Foreign-Trade Zones Act, as amended (19 U.S.C. 81a-81u), and the regulations of the Board (15 CFR part 400). It was formally docketed on December 4, 2015.

Subzone 149C was approved by the Board on September 25, 1997 (Board Order 920, 62 FR 51830, October 3, 1997) and currently consists of six sites totaling 2,095 acres: Site 1 (1,315 acres)—main refinery and petrochemical complex located at Texas State Highway 35 at Farm Market Road 524, south of Sweeney; Site 2 (160 acres)—Freeport I Terminal and storage facility located at County Road 731, some 28 miles southeast of the refinery; Site 3 (183 acres)—six crude oil storage tanks at Jones Creek Terminal located at 6215 State Highway 36, some 17 miles southeast of the refinery; Site 4 (34 acres)—San Bernard Terminal and storage facility located at County Road 378, 5 miles southeast of the refinery; Site 5 (403 acres)—Clemens Terminal underground LPG storage located at County Road 314, 15 miles east of the refinery; and, Site 6—consisting of a six-mile pipeline. The applicant is requesting authority to expand existing Site 5 to include an additional 75 acres (new site total—478 acres). No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is January 19, 2016. Rebuttal comments in response to material submitted during the foregoing period may be submitted during the subsequent 15-day period to February 2, 2016.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: December 4, 2015.
Andrew McGilvray,
Executive Secretary.

[FR Doc. 2015-31056 Filed 12-8-15; 8:45 am]

BILLING CODE 3510-DS-P